DEPARTMENT OF THE INTERIOR

National Park Service

[NPS-WASO-NAGPRA-NPS0032527; PPWOCRADN0-PCU00RP14.R50000]

Notice of Inventory Completion: Sam Noble Oklahoma Museum of Natural History, University of Oklahoma, Norman, OK

AGENCY: National Park Service, Interior.

ACTION: Notice.

SUMMARY: The Sam Noble Oklahoma Museum of Natural History (Museum) at the University of Oklahoma has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum at the address in this notice by October 13, 2021.

FOR FURTHER INFORMATION CONTACT: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History, University of Oklahoma, Norman, OK. The human remains and associated funerary objects were removed from McCurtain County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Caddo Nation of Oklahoma and The Choctaw Nation of Oklahoma.

History and Description of the Remains

In 1941, human remains representing, at minimum, 10 individuals were removed from the Clement 1 site (34Mc8) in McCurtain County, OK. This mound and midden site was excavated in 1941 by the Works Progress Administration, and the excavated materials were transferred to the Museum the same year. The human remains include one fragmentary skeleton of an adult female, 35-50 years old; one fragmentary skeleton of an adult male, 35-50 years old; one fragmentary skeleton of an adult probable male, 35-50 years old; one fragmentary skeleton of an adult of indeterminate sex, 20-35 years old; two fragmentary skeletons of adults of indeterminate sex, each more than 20 years old; one fragmentary skeleton of an adult of indeterminate sex, 35-50 years old; two fragmentary skeletons of adults greater of indeterminate sex, each more than 50 years old; and one fragmentary set of teeth belonging to an adult of indeterminate sex and age. No known individuals were identified.

The 1,103 associated funerary objects are: Four Avery Engraved type ceramic bowls, one Avery Engraved type ceramic bottle, 162 Avery Engraved type potsherds, two Emory Punctate type ceramic jars with castellated rims, one Simms Engraved type ceramic carinated bowl, 61 Simms Engraved type ceramic potsherds, six decorated ceramic bowls, one decorated ceramic jar, one decorated ceramic bottle, one decorated ceramic vessel with four applique nodes with rattles, one decorated ceramic vessel with four animal effigies on the rim, four undecorated ceramic bowls, one undecorated ceramic jar, one undecorated ceramic red olla vessel, two ceramic rattle fragments, 390 decorated potsherds, 352 undecorated potsherds, three ceramic pipe fragments, 31 small corner-notched projectile points, two Gary type projectile points, one chipped stone flake, one fragment of fire cracked rock, one stone celt, four pigment stones, one unmodified stone, two copper covered shell earspools, four faunal bone fragments, 17 shell beads, one engraved shell gorget, four engraved shell fragments, 26 shell fragments, four wood fragments, five charred corn cob fragments, one seed bead with sediment, two soil samples with possible textile matting, one charcoal sample from a vessel, and one daub fragment.

While the Clement 1 site (34Mc8) includes both historic and prehistoric components, all the human remains and associated funerary objects listed in this notice belong to the prehistoric component. Based on an analysis of the diagnostic cultural materials from the site (chipped and ground stone, ceramics, bone tools, and ornaments), as well as radiocarbon dates obtained from more recent investigations there, the prehistoric component of the site dates to A.D. 1200-1500. Archeological, oral traditional, and post-contact European historical information reasonably show that a cultural affiliation exists between the earlier group connected to the human remains and associated funerary objects at the Clement I site and the present-day Caddo Nation of Oklahoma.

Determinations Made by the Sam Noble Oklahoma Museum of Natural History

Officials of the Sam Noble Oklahoma Museum of Natural History have determined that:

• Pursuant to 25 U.S.C. 3001(9), the human remains described in this notice represent the physical remains of 10 individuals of Native American ancestry.

• Pursuant to 25 U.S.C. 3001(3)(A), the 1,103 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian Tribe or Native Hawaiian organization not identified in this notice that wish to request transfer of control of these human remains and associated funerary objects should submit a written request with information in support of the request to Dr. Marc Levine, Associate Curator of Archaeology, Sam Noble Oklahoma Museum of Natural History, University of Oklahoma, 2401 Chautauqua Avenue, Norman, OK 73072-7029, telephone (405) 325-1994, email mlevine@ou.edu, by October 13, 2021. After that date, if no additional requestors have come forward, transfer of control of the human remains and associated funerary objects to the Caddo Nation of Oklahoma may proceed.

The Sam Noble Oklahoma Museum of Natural History is responsible for notifying the Caddo Nation of Oklahoma and The Choctaw Nation of Oklahoma that this notice has been published.

Dated: August 25, 2021.
Melanie O'Brien,
Manager, National NAGPRA Program.

[FR Doc. 2021-19691 Filed 9-10-21; 8:45 am]

BILLING CODE 4312-52-P